DEPARTMENT OF TRANSPORTATION

Federal Highway Administration

Tier 1 Final Environmental Impact Statement (FEIS) for the Placer Parkway Corridor Preservation Project

December 2009.

AGENCY: United States Department of Transportation, Federal Highway Administration.

ACTION: Notice of Availability (NOA) of the Tier 1 Final Environmental Impact Statement (FEIS) for the Placer Parkway Corridor Preservation Project and a Section 4(f) Evaluation.

SUMMARY: The Federal Highway Administration (FHWA) is issuing this notice to advise the public of the availability of a Tier 1 FEIS and Section 4(f) Evaluation for the Placer Parkway Corridor Preservation Project, a proposed transportation corridor in western Placer and eastern Sutter Counties, California. This action is pursuant to the National Environmental Policy Act (NEPA) of 1969, 42 U.S.C. 4321 et seq., as amended and the Council of Environmental Quality Regulations (40 CFR parts 1500-1508). The Tier 1 FEIS discusses the recommended alternative for the Placer Parkway Project between State Route (SR) 70/99, in southeastern Sutter County, and SR 65, in southwestern Placer County, California; describes the potential environmental and socioeconomic effects of the project and a framework for mitigation; and addresses comments received on the Tier 1 Draft Environmental Impact Statement (DEIS) circulated in June 2007 and the Partially Revised Tier 1 DEIS circulated in January 2009.

DATES: Any comments regarding the Tier 1 FEIS must be received on or before January 11, 2010.

ADDRESSES: Copies are available for public inspection and review on the project Web site at http://www.pctpa.net/placerparkway/index.htm and at the following locations:

Placer County Transportation Planning Agency 299 Nevada Street, Auburn, CA

Placer County Planning Department 3091 County Center Drive, Auburn, CA

Placer County Public Works Department 3091 County Center Drive, Auburn, CA

Placer County Library 350 Nevada Street, Auburn, CA

Placer County Library, Loomis 6050 Library Drive, Loomis, CA

Sutter County Library, Main Branch 7504 Forbes Avenue, Yuba City, CA

Sutter County Library, Pleasant Grove Branch 3093 Howsley Road, Pleasant Grove, CA

Sutter County Library, Browns Branch 1248 Pacific Avenue, Rio Oso, CA

Sacramento County Public Library 828 I Street, Sacramento, CA

California State University 6000 J Street, Sacramento, CA

Sutter County Planning Department 1130 Civic Center Blvd., Yuba City, CA

Sacramento County Planning Department, 827 7th Street, Room 230, Sacramento, CA

Roseville Public Library—Downtown 225 Taylor Street, Roseville CA

Roseville Public Library—Maidu 1530 Maidu Drive, Roseville CA

Rocklin Library 5400 Fifth Street, Rocklin, CA

Lincoln Library 590 Fifth Street, Lincoln, CA

Sierra College Library 5000 Rocklin Road, Rocklin, CA

Sacramento County Library, North Natomas, 2500 New Market Drive, Sacramento, CA

Sacramento County Library, North Highlands—Antelope 4235 Antelope Road, Antelope, CA

FOR FURTHER INFORMATION CONTACT: Gary Sweeten,, North Team Leader, Local Agency Programs, FWHA California Division, 650 Capitol Mall, Suite 4-100, Sacramento, CA 95814 or via e-mail at gary.sweeten@dot.gov or Ms. Celia McAdam, Executive Director, 299 Nevada St., Auburn, California 95603, or via e-mail to pctpa@pctpa.net.

SUPPLEMENTARY INFORMATION: This proposed federal action is to preserve a corridor for the future construction of Placer Parkway, a new east-west roadway linking State Route (SR) 70/99 in Sutter County east to SR 65 in Placer County. Specifically, the action being considered and evaluated is to select and preserve a 500 to 1,000 foot-wide corridor in the project study area, within which the future four- or six-lane Placer Parkway may be constructed. Five or six interchanges were proposed, depending on the corridor alignment alternative. The Placer Parkway project is intended to reduce anticipated congestion on both the local and regional transportation system and to advance economic development goals in south Sutter County and southwestern Placer County.

Five corridor action alternatives and a no-action alternative were evaluated during the preparation of the Tier 1 EIS. Although the Parkway would be designed and construction-level impacts analyzed during the preparation of the Tier 2 EIS, for the purpose of the Tier 1 EIS, several assumptions have been made about potential design and configuration concepts. These assumptions would be subject to further development and refinement, and specific decisions about the design of the roadway would be made during the Tier 2 EIS process.

The Final Tier 1 EIS includes responses to the comments received on the Tier 1 Draft and Partially Revised Draft EIS/EIR and identifies Alternative 5 as the preferred corridor. The Parkway to be constructed in this corridor would be a high-speed, limited access roadway. Conceptually, interchanges would be located at SR 70/99 (at one-half mile north of Riego Road or at Sankey Road), one or two locations to be determined in southern Sutter County, Fiddyment Road, Foothills Boulevard, and SR 65 at Whitney Ranch Parkway. Access would be restricted for the 7-mile segment between Pleasant Grove Road and Fiddyment Road.

Issued On: December 2, 2009.
Karen Bobo,
Director, Local Agency Programs, Federal Highway Administration, Sacramento, CA.

[FR Doc. E9-29187 Filed 12-10-09; 8:45 am]

BILLING CODE 4910-22-P